ENVIRONMENTAL PROTECTION AGENCY

[FRL-6964-6]

Meeting of the Mobile Sources Technical Review Subcommittee

AGENCY: Environmental Protection Agency (EPA).

ACTION: Notice of meeting.

SUMMARY: Pursuant to the Federal Advisory Committee Act, Public Act, Public Law 92-463, notice is hereby given that the Mobile Sources Technical Review Subcommittee of the Clean Air Act Advisory Committee will meet in a regular quarterly session. This is an open meeting. The theme will be “Mobile Source Programs At Other Federal Agencies.” The meeting may include presentations by the Department of Transportation, Department of Commerce, Department of Energy and possibly others. The preliminary agenda for this meeting and draft minutes from the previous one are available from the Subcommittee's website at: http://www.epa.gov/oar/caaac/mobile_sources-caaac.html

DATES: Wednesday, April 18, 2001 from 9 am to 3:30 pm. Registration begins at 8:30 am.

ADDRESSES: The meeting will be held at the Sheraton National Hotel, Columbia Pike & Washington Blvd., Arlington, VA 22204.

FOR FURTHER INFORMATION CONTACT: For technical information: Ms. Cheryl L. Hogan, Alternate Designated Federal Officer, Certification and Compliance Division, U.S. EPA, 2000 Traverwood Drive, Ann Arbor, MI 48105, Ph: 734/214-4402, FAX: 734/214-4053, email: hogan.cheryl@epa.gov

For logistical and administrative information: Ms. Mary F. Green, FACA Management Officer, U.S. EPA, 2000 Traverwood Drive, Ann Arbor, Michigan, Ph: 734/214-4411, Fax: 734/214-4053, email: green.mary@epa.gov

Background on the work of the Subcommittee is available at: http://transaq.ce.gatech.edu/epatac.

For more current information: www.epa.gov/oar/caaac/mobile_sources-caaac.html.

Individuals or organizations wishing to provide comments to the Subcommittee should submit them to Ms. Hogan at the address above by April 10, 2001. The Mobile Sources Technical Review Subcommittee expects that public statements presented at its meetings will not be repetitive of previously submitted oral or written statements.

SUPPLEMENTARY INFORMATION: During this meeting, the Subcommittee may also hear progress reports from some of its workgroups as well as updates and announcements on activities of general interest to attendees, e.g., status of relevant EPA regulations and mobile source programs, etc.

Dated: April 3, 2001.
Margo T. Oge,
Director, Office of Transportation and Air Quality.

[FR Doc. 01-8802 Filed 4-9-01; 8:45 am]

BILLING CODE 6560-50-U